DEPARTMENT OF TRANSPORTATION

Federal Aviation Administration

14 CFR Part 39

[Docket No. 2001-SW-55-AD; Amendment 39-12552; AD 2001-22-51]

RIN 2120-AA64

Airworthiness Directives; Agusta S.p.A. Model A119 Helicopters

AGENCY: Federal Aviation Administration, DOT.

ACTION: Final rule; request for comments.

SUMMARY: This document publishes in the Federal Register an amendment adopting Airworthiness Directive (AD) 2001-22-51, which was sent previously to all known U.S. owners and operators of Agusta S.p.A. (Agusta) Model A119 helicopters by individual letters. This AD requires removing a certain part-numbered tail rotor blade (blade) on or before accumulating 50 hours time-in-service (TIS). This AD also requires visually or dye penetrant inspecting each blade at specified time intervals and removing any cracked blade before further flight. This AD is prompted by the discovery of a fatigue crack on a blade during an inspection. The actions specified by this AD are intended to prevent failure of a blade and subsequent loss of control of the helicopter.

DATES: Effective December 26, 2001, to all persons except those persons to whom it was made immediately effective by Emergency AD 2001-22-51, issued on October 30, 2001, which contained the requirements of this amendment.

The incorporation by reference of certain publications listed in the regulations is approved by the Director of the Federal Register as of December 26, 2001.

Comments for inclusion in the Rules Docket must be received on or before February 8, 2002.

ADDRESSES: Submit comments in triplicate to the Federal Aviation Administration (FAA), Office of the Regional Counsel, Southwest Region, Attention: Rules Docket No. 2001-SW-55-AD, 2601 Meacham Blvd., Room 663, Fort Worth, Texas 76137. You may also send comments electronically to the Rules Docket at the following address: 9-asw-adcomments@faa.gov.

The applicable service information may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: On October 30, 2001, the FAA issued Emergency AD 2001-22-51 for Agusta Model A119 helicopters, which requires removing a certain part-numbered tail rotor blade on or before accumulating 50 hours TIS. That Emergency AD also requires visually or dye penetrant inspecting each blade at specified time intervals and removing any cracked blade before further flight. That action was prompted by the discovery of a fatigue crack on a blade during an inspection. This condition, if not corrected, could result in failure of a blade and subsequent loss of control of the helicopter.

The FAA has reviewed Agusta Bollettino Tecnico No. 119-1, Revision A, dated August 22, 2001 (ABT), which describes procedures for performing inspections of each blade, part number (P/N) 109-8132-01-107, for a crack and assigning a new retirement life. The Ente Nazionale per l'Aviazione Civile, which is the airworthiness authority for Italy, classified the ABT as mandatory and issued ADs 2001-124, dated March 30, 2001; 2001-348, dated August 20, 2001; and 2001-374, dated August 29, 2001, to ensure the continued airworthiness of these helicopters in Italy.

This helicopter model is manufactured in Italy and is typed certificated for operation in the United States under the provisions of 14 CFR 21.29 and the applicable bilateral agreement. Pursuant to this bilaterial agreement, the ENAC has kept the FAA informed of the situation described above. The FAA has examined the findings of the ENAC, reviewed all available information, and determined that AD action is necessary for products of this type design that are certificated for operation in the United States.

Since the unsafe condition described is likely to exist or develop on other Agusta Model A119 helicopters of the same type designs, the FAA issued Emergency AD 2001-22-51 to prevent failure of a blade and subsequent loss of control of the helicopter. The AD requires the following for each blade, P/N 109-8132-01-107:

• Removing any blade on or before accumulating 50 hours TIS.

• Before each flight, visually checking both sides of each blade for a crack.

• Initially and at specified intervals or before the next flight after any abnormal tail rotor vibration, inspecting each blade for a crack using a 5-power or higher magnifying glass.

• Initially and repetitively, dye penetrant inspecting each blade for a crack.

• If a crack is found, removing the blade.

The AD revises the Limitations section of the maintenance manual by establishing a 50-hour life limit for blade, P/N 109-8132-01-107. The actions must be accomplished in accordance with the ABT described previously. An owner/operator (pilot) may perform the visual check required by paragraph (b) of the AD and must enter compliance in the helicopter maintenance records in accordance with 14 CFR 43.11 and 91.417(a)(2)(v)). The AD allows a pilot to perform this check because it involves only a visual check for a crack in the blade and can be performed equally well by a pilot or a mechanic.

The short compliance time involved is required because the previously described critical unsafe condition can adversely affect the structural integrity and controllability of the helicopter. Therefore, the actions stated previously are required at the specified time intervals, and this AD must be issued immediately.

Since it was found that immediate corrective action was required, notice and opportunity for prior public comment thereon were impracticable and contrary to the public interest, and good cause existed to make the AD effective immediately by individual letters issued on October 30, 2001 to all known U.S. owners and operators of Agusta Model A119 helicopters. However, shortly after the issuance of the emergency AD, ENAC advised us that a replacement blade is being certificated. That replacement blade should have a longer life limit and should not require mandatory inspections. Therefore, a terminating action for the requirements of this AD may become available soon. In the meantime, the unsafe condition still exists, and the emergency AD is hereby published in the Federal Register as an amendment to 14 CFR 39.13 to make it effective to all persons. This published version of the AD is identical to the version issued on October 30, 2001 except that the citation in paragraph (b) for recording compliance with the pilot check is corrected to read 91.417(a)(2)(v) instead of the non-existent 91.147(a)(2)(v) cited in the October 30, 2001 version of this AD.

We estimate that 2 helicopters of U.S. registry will be affected by this AD, that it will take approximately 4 work hours per helicopter to accomplish the required actions, and the average labor rate is $60 per work hour. The manufacturer has indicated that the cost of any replacement blade will be given pro-rata warranty credit. Based on these figures, the total cost impact of the AD on U.S. operators is estimated to be $480, assuming 100% warranty credit for any replacement blades.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-55-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-22-51 Agusta S.p.A: Amendment 39-12552. Docket No. 2001-SW-55-AD.

Applicability: Model A119 helicopters, with a tail rotor blade (blade), part number 109-8132-01-107, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (g) of this AD. The request should include an assessment of the effect of the modification, alteration, or repair on the unsafe condition addressed by this AD; and if the unsafe condition has not been eliminated, the request should include specific proposed actions to address it.

Compliance: Required as indicated, unless accomplished previously.

To prevent failure of a blade and subsequent loss of control of the helicopter, accomplish the following:

(a) Remove any blade on or before accumulating 50 hours time-in-service (TIS).

(b) Before each flight, visually check both sides of each blade for a crack. An owner/operator (pilot) holding at least a private pilot certificate may perform the visual check required by this paragraph, and must enter compliance into the helicopter maintenance records in accordance with 14 CFR 43.11 and 91.417(a)(2)(v).

(c) Within 10 hours TIS and thereafter at intervals not to exceed 10 hours TIS or before the next flight after any abnormal increase in the vibratory level of the helicopter, inspect each blade for a crack using a 5-power or higher magnifying glass in accordance with the Compliance Instructions, Part II, paragraphs 1 through 6, of Agusta Bollettino Tecnico No. 119-1, Revision A, dated August 22, 2001 (ABT).

(d) Within 25 hours TIS and thereafter at intervals not to exceed 25 hours TIS, dye penetrant inspect each blade for a crack in accordance with the Compliance Instructions, Part III, paragraphs 1 through 4.5, of the ABT.

(e) Before further flight, remove any blade in which a crack is found.

(f) This AD revises the Limitations section of the maintenance manual by establishing a 50-hour life limit for each blade, P/N 109-8132-01-107.

(g) An alternative method of compliance or adjustment of the compliance time that provides an acceptable level of safety may be used if approved by the Manager, Regulations Group, FAA. Operators shall submit their requests through an FAA Principal Maintenance Inspector, who may concur or comment and then send it to the Manager, Regulations Group.

Note 2: Information concerning the existence of approved alternative methods of compliance with this AD, if any, may be obtained from the Regulations Group.

(h) Special flight permits will not be issued.

(i) The inspections shall be done in accordance with the Compliance Instructions, Part II, paragraphs 1 through 6 and Part III, paragraphs 1 through 4.5, of Agusta Bollettino Tecnico No. 119-1, Revision A, dated August 22, 2001. This incorporation by reference was approved by the Director of the Federal Register in accordance with 5 U.S.C. 552(a) and 1 CFR part 51. Copies may be obtained from Agusta, 21017 Cascina Costa di Samarate (VA) Italy, Via Giovanni Agusta 520, telephone 39 (0331) 229111, fax 39 (0331) 229605-222595; or at the Office of the Federal Register, 800 North Capitol Street, NW., suite 700, Washington, DC.

(j) This amendment becomes effective on December 26, 2001, to all persons except those persons to whom it was made immediately effective by Emergency AD 2001-22-51, issued October 30, 2001, which contained the requirements of this amendment.

Note 3: The subject of this AD is addressed in Ente Nazionale per l'Aviazione Civile (Italy) ADs 2001-124, dated March 30, 2001; 2001-348, dated August 20, 2001; and 2001-374, dated August 29, 2001.

Issued in Fort Worth, Texas, on November 27, 2001.
Eric Bries,
Acting Manager, Rotorcraft Directorate, Aircraft Certification Service.

[FR Doc. 01-30211 Filed 12-7-01; 8:45 am]

BILLING CODE 4910-13-P